ENVIRONMENTAL PROTECTION AGENCY

40 CFR Part 81

[EPA-HQ-OAR-2008-0476; FRL- 9767-9]

Air Quality Designations for the 2008 Ozone National Ambient Air Quality Standards: Notice of Actions Denying Petitions for Reconsideration and Stay Requests

AGENCY: Environmental Protection Agency (EPA).

ACTION: Notice of actions denying petitions for reconsideration and stay requests.

SUMMARY: The EPA is providing notice that it has responded to petitions for reconsideration of rules published in the Federal Register on May 21, 2012, and June 11, 2012, that together promulgated the initial air quality designations for the 2008 ozone national ambient air quality standards for all areas in the United States. The rules are titled, “Air Quality Designations for the 2008 Ozone National Ambient Air Quality Standards,” and “Air Quality Designations for the 2008 Ozone National Ambient Air Quality Standards for Several Counties in Illinois, Indiana, and Wisconsin; Corrections to Inadvertent Errors in Prior Designations.” Subsequent to publishing the rules, during the time period from June through October 2012, the EPA received numerous petitions requesting that the EPA reconsider its designation decisions for certain areas. The EPA carefully considered the petitions and supporting information, along with information contained in the rulemaking docket, in reaching decisions on the petitions. The EPA denied all the petitions for reconsideration in separate letters to the petitioners dated December 14, 2012. The letters explain the EPA's reasons for the denials. Four petitioners also requested that the EPA stay the effectiveness of the designation rule as it applies for a particular area, pending reconsideration. Because the EPA denied the reconsideration requests, the EPA also denied the stay requests.

FOR FURTHER INFORMATION CONTACT: Carla Oldham, Office of Air Quality Planning and Standards, U.S. Environmental Protection Agency, Mail Code C539-04, Research Triangle Park, N.C. 27711, phone number (919) 541-3347 or by email at: oldham.carla@epa.gov.

SUPPLEMENTARY INFORMATION:

I. Where can I get copies of this document and other related information?

This Federal Register notice, the petitions for reconsideration, and the response letters to the petitioners are available in the docket that the EPA established for the rulemakings to promulgate the air quality designations for the 2008 ozone standards under Docket ID NO. EPA-HQ-OAR-2008-0476. The table below identifies the Petitioners, the dates the EPA received the Petitions, the document identification number of the Petitions, the date of the EPA's responses, and the document identification number for the EPA's responses.

Petitioners | Dates of petitions to the EPA | Petition: Document No. in docket | Date of the EPA response | The EPA response: Document No. in docket
Atlanta, GA Nonattainment Area
Georgia Environmental Protection Division | July 20, 2012 | 0695 | December 14, 2012 | 0726
Charlotte, NC-SC Nonattainment Area
South Carolina Department of Health and Environmental Control | July 20, 2012 | 0698 | December 14, 2012 | 0727
US Senators Graham and DeMint and US Congressman Mulvaney from SC | July 19, 2012 | 0699 | December 14, 2012 | 0722
York County, SC | July 24, 2012 | 0700 | December 14, 2012 | 0721
Knoxville, TN Nonattainment Area
Anderson, Blount, and Knox Counties, TN | July 20, 2012 and October 16, 2012 | 0696 | December 14, 2012 | 0717
Memphis, TN-MS-AR Nonattainment Area
DeSoto County, MS | July 17, 2012 | 0697 | December 14, 2012 | 0723
Shelby County, TN | July 20, 2012 and September 18, 2012 | 0702 | December 14, 2012 | 0718
State of Mississippi | July 17, 2012 | 0701 | December 14, 2012 | 0756
State of Tennessee | July 19, 2012 | 0703 | December 14, 2012 | 0719
Chicago-Naperville, IL-IN-WI Nonattainment Area
Indiana Department of Environmental Management | August 10, 2012 | 0724 | December 14, 2012 | 0728
Dallas-Fort Worth, TX Nonattainment Area
Bridgeport Area Chamber of Commerce, TX | July 17, 2012 | 0730 | December 14, 2012 | 0742
Chico City Council, TX | July 18, 2012 | 0706 | December 14, 2012 | 0732
City of Bridgeport, TX | July 20, 2012 | 0735 | December 14, 2012 | 0745
City of Boyd, TX | August 7, 2012 | 0707 | December 14, 2012 | 0731
City of Runaway Bay, TX | July 17, 2012 | 0708 | December 14, 2012 | 0746
Corporation for Economic Development for the City of Bridgeport | July 17, 2012 | 0754 | December 14, 2012 | 0743
Devon Energy Corporation | July 20, 2012 and October 30, 2012 | 0714 | December 14, 2012 | 0736
Gas Processors Association and Texas Pipeline Association | July 20, 2012 and October 30, 2012 | 0709 | December 14, 2012 | 0738
Look Local Wise County Task Force, TX | July 18, 2012 | 0720 | December 14, 2012 | 0747
Martin Marietta Materials | July 20, 2012 | 0752 | December 14, 2012 | 0739
Mauldin Pharmacy, Inc. dba Valu-Rite Pharmacy | July 17, 2012 | 0704 | December 14, 2012 | 0737
Newark City Council, TX | July 19, 2012 | 0744 | December 14, 2012 | 0750
Runaway Bay Economic Development Corporation | July 12, 2012 | 0729 | December 14, 2012 | 0733
Targa Resources Corporation | July 20, 2012 | 0715 | December 14, 2012 | 0748
Texas Commission on Environmental Quality | July 18, 2012 | 0713 | December 14, 2012 | 0753
TXI Operations, LP | July 19, 2012 | 0710 | December 14, 2012 | 0740
U.S. Ply | July 17, 2012 | 0749 | December 14, 2012 | 0734
Wayne Smith, Texas House of Representatives | July 12, 2012 | 0705 | December 14, 2012 | 0755
Wise County, TX | June 15, 2012 | 0725 | December 14, 2012 | 0741
Uinta Basin, UT Unclassifiable Area
WildEarth Guardians, Southern Utah Wilderness Alliance and Utah Physicians for a Healthy Environment | July 19, 2012 | 0711 | December 14, 2012 | 0751
Multiple Unclassifiable/Attainment Areas
Sierra Club | July 20, 2012 | 0712 | December 14, 2012 | 0716
Note: All document numbers listed in the table are in the form of “EPA-HQ-OAR-2008-0476-xxxx.”

All documents in the docket are listed in the index at http://www.regulations.gov. Although listed in the index, some information is not publicly available, i.e., Confidential Business Information or other information whose disclosure is restricted by statute. Certain other material, such as copyrighted material, is not placed on the Internet and will be publicly available only in hard copy form. Publicly available docket materials are available either electronically in the docket or in hard copy at the Docket, EPA/DC, EPA West, Room 3334, 1301 Constitution Ave. NW., Washington, DC The Public Reading Room is open from 8:30 a.m. to 4:30 p.m. Monday through Friday, excluding legal holidays. The telephone number for the Public Reading Room is (202) 566-1744, and the telephone number for the Office of Air and Radiation Docket and Information Center is (202) 566-1742.

In addition, the EPA has established a Web site for the ozone designations rulemakings at: http://www.epa.gov/ozonedesignations. This Federal Register notice, the petitions for reconsideration, and the response letters to the petitions are also available on this Web site along with other information relevant to the designation process.

II. Judicial Review

Section 307(b)(1) of the Clean Air Act indicates which Federal Courts of Appeal have venue for petitions of review of final actions by the EPA. This section provides, in part, that petitions for review must be filed in the Court of Appeals for the District of Columbia Circuit: (i) When the agency action consists of “nationally applicable regulations promulgated, or final actions taken, by the Administrator,” or (ii) when such action is locally or regionally applicable, if “such action is based on a determination of nationwide scope or effect and if in taking such action the Administrator finds and publishes that such action is based on such a determination.” In the rules establishing air quality designations for the 2008 ozone national ambient air quality standards, the EPA determined that the actions are of nationwide scope and effect for the purposes of section 307(b)(1). (See 77 FR 30088; May 21, 2012 and 77 FR 34221; June 11, 2012.)

The EPA has determined that its actions denying the petitions for reconsideration also are of nationwide scope and effect because these actions directly relate to the ozone designations rulemakings that the EPA previously determined are of nationwide scope and effect. Thus, any petitions for review of the final letters denying the petitions for reconsideration must be filed in the Court of Appeals for the District of Columbia Circuit on or before March 8, 2013.

Dated: December 27, 2012.
Gina McCarthy,
Assistant Administrator, Office of Air and Radiation.

[FR Doc. 2013-00053 Filed 1-4-13; 8:45 am]

BILLING CODE 6560-50-P